DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Boone & Scenic Valley Railroad

[Docket Number FRA-2007-28097]

By letter dated April 26, 2001, the Boone & Scenic Valley Railroad (BSV) petitioned FRA for a waiver of compliance from the requirements of 49 CFR 223.11, Existing locomotives, for four diesel electric locomotives, under Docket Number FRA-2001-9607. These four locomotives are: Numbers 1858 and 2254 (built by General Electric), Number 1098 model S-2 (American Locomotive Company), and Number 1003 model NW-2 (Electromotive Division of General Motors).

On October 2, 2001, the Railroad Safety Board approved this requested waiver for a period of 5 years, with an option for renewal. On December 6, 2006, the Board extended the waiver for an additional 5 years. However, the BSV also operates a steam locomotive, Number JS8419, over approximately 12 miles of their line from Boone, IA, in conjunction with their tourist and excursion service. Since this locomotive was built after January 1, 1946, it is required to be equipped with glazing material compliant with the requirements of 49 CFR 223.11. Steam locomotive Number JS8419 was built in China by Datong Locomotive Works in Shanxi, China, in October 1988, purchased new by the BSV in 1989, and delivered with automotive-type safety glazing. It has been in regular summer weekend service each year since 1990, except for in 1993 and 2002.

By letter dated February 12, 2007, BSV requested that Number JS8419 be granted a waiver under the same conditions as their four diesel electric locomotives. They stated that retrofitting JS8419 with compliant glazing would be very costly, and a serious financial burden on the museum.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-28097) and must be submitted in triplicate to the Docket Clerk, DOT Central Docket Management Facility, Room W12-140, 1200 New Jersey Avenue, SE., Washington, DC 20590. Communications received within 45 days of the date of this notice will be considered by FRA before final action is taken. Comments received after that date will be considered as far as practicable. All written communications concerning these proceedings are available for examination during regular business hours (9 a.m.-5 p.m.) at the DOT Central Docket Management Facility, West Building Ground Floor, Room W12-140, 1200 New Jersey Avenue, SE., Washington, DC 20590. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on June 28, 2007.
Grady C. Cothen, Jr.,
Deputy Associate Administrator for Safety Standards and Program Implementation.

[FR Doc. E7-13025 Filed 7-3-07; 8:45 am]

BILLING CODE 4910-06-P